INTERNATIONAL TRADE COMMISSION

[USITC SE-03-004]

Sunshine Act Meeting

AGENCY HOLDING THE MEETING: International Trade Commission.

DATE AND TIME: February 13, 2003 at 11 a.m.

PLACE: Room 101, 500 E Street SW., Washington, DC 20436, Telephone: (202) 205-2000.

Status: Open to the public.

Matters To Be Considered:

1. Agenda for future meetings: none

2. Minutes

3. Ratification List

4. Inv. No. 731-TA-1023 (Preliminary)(Certain Ceramic Station Post Insulators from Japan)—briefing and vote. (The Commission is currently scheduled to transmit its determination to the Secretary of Commerce on or before February 14, 2003; Commissioners' opinions are currently scheduled to be transmitted to the Secretary of Commerce on or before February 24, 2003.)

5. Outstanding action jackets: none

In accordance with Commission policy, subject matter listed above, not disposed of at the scheduled meeting, may be carried over to the agenda of the following meeting.

Issued: January 31, 2003.
By order of the Commission.
Marilyn R. Abbott,
Secretary to the Commission.

[FR Doc. 03-3006 Filed 2-3-03; 4:49 pm]

BILLING CODE 7020-02-P